INTERNATIONAL TRADE COMMISSION

[Investigation Nos. 701-TA-690-691 and 731-TA-1619-1625 and 731-TA-1627 (Final)]

Paper Shopping Bags From Cambodia, China, Colombia, India, Malaysia, Portugal, Taiwan, and Vietnam; Scheduling of the Final Phase of the Antidumping and Countervailing Duty Investigations

AGENCY: United States International Trade Commission.

ACTION: Notice.

DATES: May 24, 2024.

FOR FURTHER INFORMATION CONTACT: Andres Andrade ((202) 205-2078), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective January 3, 2024, the Commission established a general schedule for the conduct of the final phase of its investigations on paper shopping bags from Cambodia, China, Colombia, India, Malaysia, Portugal, Taiwan, Turkey, and Vietnam ¹ following preliminary determinations by the U.S. Department of Commerce (“Commerce”) that imports of paper shopping bags from China and India were being subsidized by the governments of China and India and that imports of paper shopping bags from Cambodia, China, Colombia, India, Malaysia, Portugal, Taiwan, Turkey, and Vietnam were being sold in the United States at less than fair value (“LTFV”).² Notice of the scheduling of the final phase of the Commission's investigations and of a public hearing to be held in connection therewith was given by posting copies of the notice in the Office of the Secretary, U.S. International Trade Commission, Washington, DC, and by publishing the notice in the Federal Register on January 18, 2024, (89 FR 3424). The Commission conducted its hearing on March 14, 2024.

¹ 89 FR 3424, January 18, 2024.

² 88 FR 76180, 88 FR 76185, November 6, 2024; and 89 FR 319, 89 FR 321, 89 FR 325, 89 FR 331, 89 FR 333, 89 FR 336, 89 FR 339, 89 FR 341, and 89 FR 344, January 3, 2024

The Commission subsequently issued its final determination that an industry in the United States was materially injured by reason of imports of paper shopping bags from Turkey that Commerce had determined were sold at LTFV in the United States.³ Commerce issued its final affirmative determinations that imports of paper shopping bags from Cambodia, China, Colombia, India, Malaysia, Portugal, Taiwan, and Vietnam were being sold at LTFV in the United States and that imports of paper shopping bags from China and India were being subsidized by the governments of China and India.⁴ Accordingly, the Commission currently is issuing a supplemental schedule for its antidumping and countervailing duty investigations on imports of product from Cambodia, China, Colombia, India, Malaysia, Portugal, Taiwan, and Vietnam.

³ 89 FR 19295, March 18, 2024.

⁴ 89 FR 45841, 89 FR 45823, 89 FR 45843, 89 FR 45826, 89 FR 45821, 89 FR 45845, 89 FR 45832, 89 FR 45839, 89 FR 45829, 89 FR 45834, May 24, 2024.

This supplemental schedule is as follows: the deadline for filing supplemental party comments on Commerce's final antidumping and countervailing duty determinations is 5:15 p.m. on May 31, 2024. Supplemental party comments may address only Commerce's final antidumping and countervailing duty determinations regarding imports of product from Cambodia, China, Colombia, India, Malaysia, Portugal, Taiwan, and Vietnam. These supplemental final comments may not contain new factual information and may not exceed five (5) pages in length. The supplemental staff report in the final phase of these investigations regarding subject imports from Cambodia, China, Colombia, India, Malaysia, Portugal, Taiwan, and Vietnam will be placed in the nonpublic record on June 17, 2024; and a public version will be issued thereafter.

For further information concerning these investigations see the Commission's notice cited above and the Commission's Rules of Practice and Procedure, part 201, subparts A and B (19 CFR part 201), and part 207, subparts A and C (19 CFR part 207).

Please note the Secretary's Office will accept only electronic filings during this time. Filings must be made through the Commission's Electronic Document Information System (EDIS, https://edis.usitc.gov). No in-person paper-based filings or paper copies of any electronic filings will be accepted until further notice.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This proceeding is being conducted under authority of title VII of the Tariff Act of 1930; this notice is published pursuant to section 207.21 of the Commission's rules.

By order of the Commission.
Issued: May 28, 2024.
Lisa Barton,
Secretary to the Commission.

[FR Doc. 2024-12054 Filed 5-31-24; 8:45 am]

BILLING CODE 7020-02-P